DEPARTMENT OF ENERGY

Federal Energy Regulatory Commission

[CP01-408-000]

Tuscarora Gas Transmission Company; Notice of Request Under Blanket Authorization

July 25, 2001.

Take notice that on July 20, 2001, Tuscarora Gas Transmission Company (Tuscarora), 1575 Delucchi Lane, Suite 225, Reno, Nevada 89520-3057, filed in Docket No. CP01-408-000 a request pursuant to Sections 157.205 and 157.216 of the Commission's Regulations under the Natural Gas Act (18 CFR 157.205 and 157.216) for authorization to abandon and transfer by sale to Sierra Pacific Power Company (SPPC), a Nevada corporation, certain natural gas transmission facilities, located in Washoe County, Nevada, under Tuscarora's blanket certificate issued in Docket No. CP93-685-000 pursuant to Section 7 of the Natural Gas Act, all as more fully set forth in the request which is on file with the Commission and open to public inspection. This filing may be viewed on the web at http://www.ferc.gov using the “RIMS” link, select “Docket #” from the RIMS Menu and follow the instructions (please call 202-208-2222 for assistance).

Tuscarora proposes to abandon by sale to SPCC all of Tuscarora's rights, title, and interest in: (i) 2.52 miles of 16-inch diameter lateral pipeline extending from the outlet side of the Golden Valley Meter Station, located in Washoe County, Nevada to its terminus at SPCC's Lemmon Valley City Gate, located in Washoe County, Nevada; (ii) any easements and other property rights; and (iii) any associated valves and appurtenances. Tuscarora states that collectively, these facilities are referred to as the Lemmon Valley Lateral.

Tuscarora asserts that it does not propose the abandonment of service to any customer as a result of the proposed sale. Tuscarora states that other than SPCC, no customer is currently utilizing the Lemmon Valley Lateral facilities on a firm or interruptible basis.

Any questions regarding the application should be directed to Greg Galbraith, Tuscarora Gas Transmission Company, 1575 Delucchi Lane, Suite 225, P.O. Box 30057, Reno, Nevada 89520-3057, at (775) 834-4292, facsimile: (775) 834-3886.

Any person or the Commission's staff may, within 45 day after issuance of the instant notice by the Commission, file pursuant to Rule 214 of the Commission's Procedural Rules (18 CFR 385.214) a motion to intervene or notice of intervention and pursuant to Section 157.205 of the Regulations under the Natural Gas Act (18 CFR 157.205), a protest to the request. If no protest is filed within the time allowed therefor, the proposed activity shall be deemed to be authorized effective the day after the time allowed for protest. If a protest is filed and not withdrawn within 30 days after the time allowed for filing a protest, the instant request shall be treated as an application for authorization pursuant to Section 7 of the Natural Gas Act. Comments and protests may be filed electronically via the internet in lieu of paper. See, 18 CFR 385.2001(a)(1)(iii) and the instructions on the Commission's web site under the “e-Filing” link.

Linwood A. Watson, Jr.,
Acting Secretary.

[FR Doc. 01-18998 Filed 7-30-01; 8:45 am]

BILLING CODE 6717-01-P